DEPARTMENT OF HOMELAND SECURITY

[Docket No. DHS-2015-0007]

Office of Cybersecurity and Communications, National Protection and Programs Directorate Notice of Meeting Regarding Information Sharing and Analysis Organizations

Authority: 6 U.S.C. 131-134; 6 CFR. 29; E.O. 13691.

AGENCY: Office of Cybersecurity and Communications, National Protection and Programs Directorate.

ACTION: Notice of Meeting.

SUMMARY: This Notice announces a public meeting on March 18, 2015 to discuss Information Sharing and Analysis Organizations, cybersecurity information sharing, and the Executive Order 13691, “Promoting Private Sector Cybersecurity Information Sharing” of February 13, 2015.

DATES: The meeting will be held on March 18, 2015, 9:00 a.m. to 11:30 a.m. The meeting may conclude before the allotted time if all matters for discussion have been addressed. Submit comments on or before April 19, 2015 at 11:59 p.m. In the event DHS does not have appropriations by 11:59 p.m. on March 16, 2015, this notice and the meeting is cancelled.

ADDRESSES: The meeting location is in Arlington—Navy League of the United States, 2300 Wilson Boulevard, Arlington, VA 22201. See Supplementary Information section for the address to submit written or electronic comments.

FOR FURTHER INFORMATION CONTACT: If you have questions concerning the meeting, please contact ISAO@hq.dhs.gov or Michael A. Echols, Director, JPMO, Department of Homeland Security, michael.echols@dhs.gov.

SUPPLEMENTARY INFORMATION:

Background and Purpose

On February 13, 2015, President Obama signed Executive Order 13691 intended to enable and facilitate “private companies, nonprofit organizations, and executive departments and agencies . . .to share information related to cybersecurity risks and incidents and collaborate to respond in as close to real time as possible.” The order addresses two concerns the private sector has raised:

• How can companies share information if they do not fit neatly into the sector-based structure of the existing Information Sharing and Analysis Centers (ISACs)?

• If a group of companies wants to start an information sharing organization, what model should they follow? What are the best practices for such an organization?

ISAOs may allow organizations to robustly participate in DHS information sharing programs even if they do not fit into an existing critical infrastructure sector, seek to collaborate with other companies in different ways (regionally, for example), or lack sufficient resources to share directly with the government. ISAOs may participate in existing DHS cybersecurity information sharing programs and contribute to near-real-time sharing of cyber threat indicators.

Information on Service for Individuals With Disabilities

For information on facilities or services for individuals with disabilities or to request special assistance at the public meeting, contact ISAO@hq.dhs.gov and write “Special Assistance” in the subject box or contact the meeting coordinator the FOR FURTHER INFORMATION CONTACT section of this notice.

Meeting Details

Members of the public may attend this meeting up to the seating capacity of the room. We plan to record the meeting using an audio-digital recorder, and to make that audio recording available through a link in our online docket. A valid government-issued photo identification (for example, a driver's license) will be required for entrance to the building and meeting space. To facilitate the building security process, and to request reasonable accommodation, those who plan to attend should contact the meeting coordinator, Mr. Michael Echols, 7 days prior to the meeting by using the contact information in the FOR FURTHER INFORMATION CONTACT section of this notice. Requests made after March 11, 2015 might not be able to be accommodated.

We encourage you to participate in this meeting by commenting orally, or submitting written comments to the DHS personnel attending the meeting who are identified to receive them. These comments will be posted to the online docket and will include any personal information you have provided.

In the event that DHS does not have appropriations as of Monday, March 16, 2015 by 11:59 p.m., the meeting is cancelled until further notice.

Submitting Other Written Comments

You may also submit written comments to the docket before or after the meeting using any one of the following methods:

(1) Federal eRulemaking Portal: http://www.regulations.gov. Although comments are being submitted to the Federal eRulemaking Portal, this is a tool to provide transparency to the general public, not because this is a rulemaking action.

(2) Email: ISAO@hq.dhs.gov. Include the docket number in the subject line of the message.

(3) Fax: 703-235-4981, Attn: Michael A. Echols.

(4) Mail: Michael A. Echols, Director, JPMO—ISAO Coordinator, NPPD, Department of Homeland Security, 245 Murray Lane, Mail Stop 0615, Arlington VA 20598-0615.

To avoid duplication, please use only one of these four methods. All comments and related material submitted after the meeting must either be submitted to the online docket on or before April 19, 2015, or reach the Docket Management Facility by that date.

Dated: February 25, 2015.
Andy Ozment,
Assistant Secretary for Cybersecurity and Communications, National Protection and Programs Directorate, Department of Homeland Security.

[FR Doc. 2015-04435 Filed 3-3-15; 8:45 am]

BILLING CODE 9110-9P-P